DEPARTMENT OF COMMERCE

International Trade Administration

[C-122-815]

Pure Magnesium and Alloy Magnesium From Canada: Notice of Extension of Time Limit for 2004 Administrative Reviews

AGENCY: Import Administration, International Trade Administration, Department of Commerce.

EFFECTIVE DATE: April 11, 2006.

FOR FURTHER INFORMATION CONTACT: Andrew McAllister, AD/CVD Operations, Office 1, Import Administration, International Trade Administration, U.S. Department of Commerce, 14th Street and Constitution Avenue, NW, Washington, DC 20230; telephone (202) 482-1174.

SUPPLEMENTARY INFORMATION:

Statutory Time Limits

Section 751(a)(3)(A) of the Tariff Act of 1930, as amended (“the Act”), requires the Department of Commerce (“Department”) to issue the preliminary results of an administrative review within 245 days after the last day of the anniversary month of an order for which a review is requested and a final determination within 120 days after the date on which the preliminary results are published. If it is not practicable to complete the review within the time period, section 751(a)(3)(A) of the Act allows the Department to extend these deadlines to a maximum of 365 days and 180 days, respectively.

Background

On September 28, 2005, the Department published a notice of initiation of administrative reviews of the countervailing duty orders on pure magnesium and alloy magnesium from Canada, covering the period January 1, 2004, through December 31, 2004. See Initiation of Antidumping and Countervailing Duty Administrative Reviews and Request for Revocation in Part, 70 FR 56631 (September 28, 2005). The preliminary results for the countervailing duty administrative reviews of pure magnesium and alloy magnesium from Canada are currently due no later than May 3, 2006.

Extension of Time Limits for Preliminary Results

The Department requires additional time to review and analyze Norsk Hydro Canada Inc.'s (“NHCI”) request for revocation of the orders in part. Moreover, the Department requires additional time for the possibility of verification in these reviews, and it is thus not practicable to complete these reviews within the original time limit (i.e., May 3, 2006). Therefore, the Department is extending the time limit for completion of these preliminary results to not later than July 12, 2006, in accordance with section 751(a)(3)(A) of the Act.

We are issuing and publishing this notice in accordance with sections 751(a)(1) and 777(i)(1) of the Act.

Dated: April 5, 2006.
Stephen J. Claeys,
Deputy Assistant Secretary for Import Administration.

[FR Doc. E6-5339 Filed 4-10-06; 8:45 am]

BILLING CODE 3510-DS-S